FEDERAL COMMUNICATIONS COMMISSION

[Report No. 2870]

Petitions for Reconsideration of Action in Rulemaking Proceeding

July 21, 2008.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by September 11, 2008. See Section 1.4(b)(1) of the Commission's rules (47 CFR 1.4(b)(1). Replies to oppositions must be filed within 10 days after the time for filing oppositions has expired.

Subject: In the Matter of Amendment Section 73.622(i), Final DTV Table of Allotments, Television Broadcast Stations (Riverside, California) (MB Docket No. 08-30).

Number of Petitions Filed: 1.

Subject: In the Matter of Improving Public Safety Communications in the 800 MHz Band (WT Docket No. 02-55). New 800 MHz Band Plan for U.S.-Canada Border Region.

Number of Petitions Filed: 1.

Marlene H. Dortch,
Secretary.

[FR Doc. E8-17276 Filed 7-25-08; 8:45 am]

BILLING CODE 6712-01-P